DEPARTMENT OF ENERGY

Federal Energy Regulatory Commission

[Docket Nos. RP01-245-000 and RP01-253-000]

Transcontinental Gas Pipe Line Corporation; Notice Cancelling Settlement Conference

June 12, 2002.

Take notice that an informal settlement conference that was to have been convened in this proceeding commencing at 10:00 am on Monday, June 17, 2002 at the offices of the Federal Energy Regulatory Commission, 888 First Street, NE, Washington, DC, 20426, for the purpose of exploring the possible settlement of the above-referenced dockets, has been cancelled.

For additional information, please contact Bill Collins at (202) 208-0248 or Irene Szopo at (202) 208-1602.

Linwood A. Watson, Jr.,
Deputy Secretary.

[FR Doc. 02-15412 Filed 6-18-02; 8:45 am]

BILLING CODE 6717-01-P